DEPARTMENT OF TRANSPORTATION

Surface Transportation Board

[STB Docket No. AB-566X]

Gateway Western Railway Company—Discontinuance of Service Exemption—in Jackson County, MO

On April 3, 2000, Gateway Western Railway Company (Gateway) filed with the Surface Transportation Board (Board) a petition under 49 U.S.C. 10502 for exemption from the provisions of 49 U.S.C. 10903 to discontinue service over a 5.45-mile line of railroad, known as the Coburg Line, extending from milepost 0.0 at Sheffield Interlocking to milepost 5.45 near BV Junction, in Jackson County, MO.¹ The line traverses U.S. Postal Service Zip Codes 64125, 64126, and 64129. There are no stations on the line.

¹ The line is owned by The Burlington Northern and Santa Fe Railway Company (BNSF) and was operated under lease by Gateway. The lease expired on July 31, 1999, and BNSF resumed service on the line.

Because Gateway is not the owner of the line, it states that it does not know whether the line contains federally granted rights-of-way. Any documentation in Gateway's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by July 21, 2000.

Any offer of financial assistance to subsidize continued rail service under 49 CFR 1152.27(b)(2) will be due no later than 10 days after service of a decision granting the petition for exemption. Each offer must be accompanied by a $1,000 filing fee. See 49 CFR 1002.2(f)(25).

This proceeding is exempt from environmental reporting requirements under 49 CFR 1105.6(c) and from historic reporting requirements under 1105.8(b).

All filings in response to this notice must refer to STB Docket No. AB-566X and must be sent to: (1) Surface Transportation Board, Office of the Secretary, Case Control Unit, 1925 K Street, N.W., Washington, DC 20423-0001; and (2) William A. Mullins, Troutman Sanders LLP, 1300 I Street, N.W., Washington, DC 20005. Replies are due May 11, 2000.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

Board decisions and notices are available on our website at “WWW.STB.DOT.GOV.”

Decided: April 12, 2000.
By the Board, David M. Konschnik, Director, Office of Proceedings.
Vernon A. Williams,
Secretary.

[FR Doc. 00-9811 Filed 4-20-00; 8:45 am]

BILLING CODE 4915-00-P